DEPARTMENT OF ENERGY

Federal Energy Regulatory Commission

Combined Notice of Filings

Take notice that the Commission has received the following Natural Gas Pipeline Rate and Refund Report filings:

Filings Instituting Proceedings

Docket Numbers: RP15-266-000.

Applicants: Bear Creek Storage Company, L.L.C.

Description: Annual Fuel Assessment Report of Bear Creek Storage Company, L.L.C.

Filed Date: 12/17/14.

Accession Number: 20141217-5143.

Comments Due: 5 p.m. ET 1/12/15.

Docket Numbers: RP15-315-000.

Applicants: Algonquin Gas Transmission, LLC.

Description: § 4(d) rate filing per 154.204: BUG Ramapo Jan2015 Release to Platinum Energy to be effective 1/7/2015.

Filed Date: 1/7/15.

Accession Number: 20150107-5059.

Comments Due: 5 p.m. ET 1/20/15.

Docket Numbers: RP15-317-000.

Applicants: Enable Gas Transmission, LLC.

Description: § 4(d) rate filing per 154.204: Negotiated Rate Filing—January 2015—LER 0222 Att A to be effective 1/7/2015.

Filed Date: 1/7/15.

Accession Number: 20150107-5129.

Comments Due: 5 p.m. ET 1/20/15.

Docket Numbers: RP15-318-000.

Applicants: Enable Mississippi River Transmission, L.

Description: § 4(d) rate filing per 154.204: Negotiated Rate Filing to Amend LER 5680's Attachment A_1-7-15 to be effective 1/7/2015.

Filed Date: 1/7/15.

Accession Number: 20150107-5194.

Comments Due: 5 p.m. ET 1/20/15.

Docket Numbers: RP15-319-000.

Applicants: Northern Natural Gas Company.

Description: § 4(d) rate filing per 154.204: 20150107 Negotiated Rate to be effective 1/8/2015.

Filed Date: 1/7/15.

Accession Number: 20150107-5215.

Comments Due: 5 p.m. ET 1/20/15.

Docket Numbers: RP15-320-000.

Applicants: Iroquois Gas Transmission System, L.P.

Description: § 4(d) rate filing per 154.204: 01/07/15 Negotiated Rates—ConEdison Energy Inc. (HUB) 2275-89 to be effective 1/6/2015.

Filed Date: 1/7/15.

Accession Number: 20150107-5221.

Comments Due: 5 p.m. ET 1/20/15.

Docket Numbers: RP15-321-000.

Applicants: Iroquois Gas Transmission System, L.P.

Description: § 4(d) rate filing per 154.204: 01/07/15 Negotiated Rates—Trafigura AG (HUB) 7445-89 Revised to be effective 1/6/2015.

Filed Date: 1/7/15.

Accession Number: 20150107-5222.

Comments Due: 5 p.m. ET 1/20/15.

Docket Numbers: RP15-322-000.

Applicants: Iroquois Gas Transmission System, L.P.

Description: § 4(d) rate filing per 154.204: 01/07/15 Negotiated Rates—Mercuria Energy Gas Trading LLC (HUB) 7540-89 to be effective 1/6/2015.

Filed Date: 1/7/15.

Accession Number: 20150107-5229.

Comments Due: 5 p.m. ET 1/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2015.
Nathaniel J. Davis, Sr.,
Deputy Secretary.

[FR Doc. 2015-00728 Filed 1-16-15; 8:45 am]

BILLING CODE 6717-01-P